DEPARTMENT OF THE INTERIOR

Bureau of Land Management

[MTM 067221]

Public Land Order No. 7781; Extension of Public Land Order No. 6881; Montana

AGENCY: Bureau of Land Management, Interior.

ACTION: Public Land Order.

SUMMARY: This order extends the duration of the withdrawal created by Public Land Order No. 6881 for an additional 20-year period. The extension is necessary to continue the protection of the United States Forest Service's Howard Lake, Ross Creek, and Yaak Falls Recreation Areas located in the Kootenai National Forest which would otherwise expire on September 18, 2011.

DATES: Effective Date: September 19, 2011.

FOR FURTHER INFORMATION CONTACT: Scott Bixler, U.S. Forest Service, Region 1, P. O. Box 7669, Missoula, Montana 59807, 406-329-3655, sbixler@fs.fed.us, or Sandra Ward, Bureau of Land Management, 5001 Southgate Drive, Billings, Montana 59101-4669, 406-896-5052, sward@mt.blm.gov. Persons who use a telecommunications device for the deaf (TDD) may call the Federal Information Relay Service (FIRS) at 1-800-877-8339 to reach the Bureau of Land Management or Forest Service contact during normal business hours. The FIRS is available 24 hours a day, 7 days a week, to leave a message or question with the above individual. You will receive a reply during normal business hours.

SUPPLEMENTARY INFORMATION: The purpose for which the withdrawal was first made requires this extension in order to continue the protection of the recreational values and the investment of Federal funds at the Howard Lake, Ross Creek, and Yaak Falls Recreation Areas. The withdrawal extended by this order will expire on September 18, 2031, unless, as a result of a review conducted prior to the expiration date, pursuant to Section 204(f) of the Federal Land Policy and Management Act of 1976, 43 U.S.C. 1714(f), the Secretary of the Interior determines that the withdrawal shall be further extended.

Order

By virtue of the authority vested in the Secretary of the Interior by Section 204 of the Federal Land Policy and Management Act of 1976, 43 U.S.C. 1714, it is ordered as follows:

Public Land Order No. 6881 (56 FR 47414 (1991)) which withdrew 95 acres of National Forest System lands from location and entry under the United States mining laws (30 U.S.C. ch. 2), but not from leasing under the mineral leasing laws, to protect the Howard Lake, Ross Creek, and Yaak Falls Recreation Areas, is hereby extended for an additional 20-year period until September 18, 2031.

Authority: 43 CFR 2310.4.

Dated: September 9, 2011.
Rhea S. Suh,
Assistant Secretary—Policy, Management and Budget.

[FR Doc. 2011-25605 Filed 10-4-11; 8:45 am]

BILLING CODE 3410-11-P